ENVIRONMENTAL PROTECTION AGENCY

[EPA-HQ-OPP-2014-0009; FRL-9914-42]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before September 12, 2014.

ADDRESSES: Submit your comments, identified by docket identification (ID) number and the EPA Registration Number or File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Lois Rossi, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register pesticide products containing active ingredients not included in any currently registered pesticide products. Pursuant to the provisions of FIFRA section 3(c)(4), EPA is hereby providing notice of receipt and opportunity to comment on these applications. Notice of receipt of these applications does not imply a decision by the Agency on these applications.

1. EPA File Symbol: 524-ARO. Docket ID Number: EPA-HQ-OPP-2014-0456. Applicant: Monsanto Company, 800 North Lindbergh Blvd., St. Louis, MO 63167. Active Ingredient: Bacillus thuringiensis Cry1A.105 and Cry2Ab2 proteins and the genetic material (Vector PV-GMIR13196) necessary for their production in MON 87751 soybean. Product Type: Plant-incorporated protectant. Proposed Use: Control of lepidopteran soybean pests. (BPPD)

2. EPA File Symbols: 100-RUAT, 100-RUAE, 100-RUAG, 100-RUAA, 100-RUAL. Docket ID Number: EPA-HQ-OPP-2014-0355. Applicant: Syngenta Crop Protection, LLC, P.O. Box 18300, Greensboro, NC 27419. Active Ingredient: Bicyclopyrone. Product Type: herbicide. Proposed Uses: Technical and End-Use products intended for use in or on field corn, seed corn, silage corn, sweet corn and yellow popcorn. (RD)

3. EPA File Symbol: 524-ARI. Docket ID Number: EPA-HQ-OPP-2014-0293. Applicant: Monsanto Company, 800 N. Lindbergh Blvd., St. Louis, MO 63167. Active Ingredients: Double-stranded ribonucleic acid (dsRNA) transcript comprising a DvSnf7 inverted repeat sequence derived from western corn rootworm (Diabrotica virgifera virgifera) and Bacillus thuringiensis Cry3Bb1 protein and the genetic materials (vector PV-ZMIR10871) necessary for their production in MON 87411 corn (OECD Unique Identifier: MON-87411-9). Proposed Uses: Plant-incorporated protectant. (BPPD)

4. EPA File Symbol: 89850-R. Docket ID Number: EPA-HQ-OPP-2014-0376. Applicant: J&T Associates, LLC, 4061 North 156th Dr., Goodyear, AZ 85395 on behalf of SemioBio Technologies, Inc. 320-887 Great Northern Way, Vancouver, BC V5T 4T5. Canada. Active Ingredient: Furfuryl Propionate. Product Type: Bed Bug Repellent. Proposed Uses: Application by general public, first responders and pest control operators when applied to uniforms, clothing, luggage and other surfaces against bed bugs. (BPPD)

5. EPA File Symbols: 71512-ER, 71512-EE, and 71512-EG. Docket ID Number: EPA-HQ-OPP-2013-0138. Applicant: ISK Biosciences, 7470 Auburn Rd., Suite A, Concord, OH 44077. Active Ingredient: Isofetamid. Product Type: Fungicide. Proposed Use: Turf. Turf was not included on the previous NOR for isofetamid which published on 4/9/13. (RD)

6. EPA File Symbols: 83623-R, 83623-G and 83623-E. Docket ID Number: EPA-HQ-OPP-2014-0375. Applicant: Interregional Research Project Number 4, 500 College Rd. East, Suite 201W, Princeton, New Jersey 08540 on behalf of BetaTec Hop Products, Inc., 5185 MacArthur Blvd. NW., Suite 300, Washington, DC 20016. Active Ingredient: Potassium Salts of Hop Beta Acids (Hop beta acids resin). Product Type: Miticide. Proposed Uses: Manufacturing-Use Products to be formulated into end-use products for the management of Varroa mite in bee hives. (BPPD)

7. EPA File Symbol: 88958-R. Docket ID Number: EPA-HQ-OPP-2014-0358. Applicant: Interregional Research Project Number 4, IR-4, Rutgers University, 500 College Rd. East, Suite 201W, Princeton, NJ 08540, on behalf of CAI America LLC, 309 Fairwinds Dr., Cary, NC 27518. Active ingredient: Propylene Glycol Alginate. Product Type: Nematocide, Insecticide, and Fungicide. Proposed Uses: Manufacturing-use product to be formulated into end-use products for Preharvest applications to crops and turf. (BPPD)

8. EPA File Symbol: 88958-E. Docket ID Number: EPA-HQ-OPP-2014-0358. Applicant: Interregional Research Project Number 4, IR-4, Rutgers University, 500 College Rd. East, Suite 201W, Princeton, NJ 08540, on behalf of CAI America LLC, 309 Fairwinds Dr., Cary, NC 27518. Active ingredient: Propylene Glycol Alginate. Product Type: Nematocide, Insecticide, and Fungicide. Proposed Uses: End-use product for preharvest, in-furrow, soil drench and foliar applications to crops and turf. (BPPD)

List of Subjects

Environmental protection, Pesticides and pest.

Dated: August 1, 2014.
Lois Rossi,
Director, Registration Division, Office of Pesticide Programs.

[FR Doc. 2014-19060 Filed 8-12-14; 8:45 am]

BILLING CODE 6560-50-P